DEPARTMENT OF HOMELAND SECURITY

Federal Emergency Management Agency

Agency Information Collection Activities: Submission for OMB Review; Comment Request

AGENCY: Federal Emergency Management Agency, Department of Homeland Security.

ACTION: Notice and request for comments.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

Collection of Information:

Title: Effectiveness of a Community's Implementation of the NFIP Community Assistance Program CAC and CAV Reports.

OMB Number: 1660-0023.

Abstract: This collection provides basic information about floodplain management program and contact information pertaining to NFIP participating communities. The information is used by FEMA and NFIP State Coordinating Agencies to identify problems with communities' floodplain management and determine assistance. The two key methods FEMA uses in determining community assistance needs are through the CAC and CAV, which serve to provide a systematic means of monitoring community NFIP compliance. Through the CAC and CAV, FEMA can also determine to what extent communities are achieving the flood loss reduction objectives of the NFIP. By providing assistance to communities, the CAC and CAV also serve to enhance FEMA's goals of reducing future flood losses, thereby achieving the cost-containment objective of the NFIP.

Affected Public: State, Local, Tribal, and Federal Governments.

Number of Respondents: 3,000.

Estimated Time per Respondent: Two hours per respondent to complete the Community Visit Report (CAV), FF 81-68; and 1 hour per respondent to complete the Community Contact Report (CAC), FF 81-69.

Estimated Total Annual Burden Hours: 4,000 hours.

Frequency of Response: Once every five years per participating community.

Comments: Interested persons are invited to submit written comments on the proposed information collection to the Office of Information and Regulatory Affairs at OMB, Attention: Desk Officer for the Department of Homeland Security/FEMA, Docket Library, Room 10102, 725 17th Street, NW., Washington, DC 20503, or facsimile number (202) 395-7285. Comments must be submitted on or before January 9, 2006.

FOR FURTHER INFORMATION CONTACT: Requests for additional information or copies of the information collection should be made to Chief, Records Management, FEMA, 500 C Street, SW., Room 316, Washington, DC 20472, facsimile number (202) 646-3347, or e-mail address FEMA-Information-Collections@dhs.gov.

Dated: November 28, 2005.
Darcy Bingham,
Branch Chief, Information Resources Management Branch, Information Technology Services Division.

[FR Doc. E5-7156 Filed 12-8-05; 8:45 am]

BILLING CODE 9110-12-P